NUCLEAR REGULATORY COMMISSION

[Docket No. 50-293]

Entergy Nuclear Operations, Inc., Pilgrim Nuclear Power Station; Notice of Availability of The Draft Supplement 29 to the Generic Environmental Impact Statement for License Renewal of Nuclear Plants, and Public Meeting for the License Renewal of Pilgrim Nuclear Power Station

Notice is hereby given that the U.S. Nuclear Regulatory Commission (NRC, Commission) has published a draft plant-specific supplement to the Generic Environmental Impact Statement for License Renewal of Nuclear Plants (GEIS), NUREG-1437, regarding the renewal of operating license DPR-35 for an additional 20 years of operation for the Pilgrim Nuclear Power Station (Pilgrim). Pilgrim is located on the western shore of Cape Cod in the Town of Plymouth, Plymouth County, Massachusetts. It is 38 miles southeast of Boston, Massachusetts, and 44 miles east of Providence, Rhode Island. Possible alternatives to the proposed action (license renewal) include no action and reasonable alternative energy sources.

The draft Supplement 29 to the GEIS is publicly available at the NRC Public Document Room (PDR), located at One White Flint North, 11555 Rockville Pike, Rockville, Maryland, 20852, or from the NRC's Agencywide Documents Access and Management System (ADAMS). The ADAMS Public Electronic Reading Room is accessible at http://adamswebsearch.nrc.gov/dologin.htm. The Accession Number for the draft Supplement 29 to the GEIS is ML063260173. Persons who do not have access to ADAMS, or who encounter problems in accessing the documents located in ADAMS, should contact the NRC's PDR reference staff by telephone at 1-800-397-4209, or 301-415-4737, or by e-mail at pdr@nrc.gov. In addition, the Plymouth Public Library, 132 South Street; Duxbury Free Library, 77 Alden Street; and the Kingston Public Library, 6 Green Street, has agreed to make the draft supplement to the GEIS available for public inspection.

Any interested party may submit comments on the draft supplement to the GEIS for consideration by the NRC staff. To be certain of consideration, comments on the draft supplement to the GEIS and the proposed action must be received by February 28, 2007.

Comments received after the due date will be considered if it is practical to do so, but the NRC staff is able to assure consideration only for comments received on or before this date. Written comments on the draft supplement to the GEIS should be sent to: Chief, Rules and Directives Branch, Division of Administrative Services, Office of Administration, Mail Stop T-6D59, U.S. Nuclear Regulatory Commission, Washington, DC 20555-0001.

Comments may be hand-delivered to the NRC at 11545 Rockville Pike, Room T-6D59, Rockville, Maryland, between 7:30 a.m. and 4:15 p.m. on Federal workdays. Electronic comments may be submitted to the NRC by e-mail at PilgrimEIS@nrc.gov. All comments received by the Commission, including those made by Federal, State, local agencies, Native American Tribes, or other interested persons, will be made available electronically at the Commission's PDR in Rockville, Maryland, and through ADAMS.

The NRC staff will hold a public meeting to present an overview of the draft plant-specific supplement to the GEIS and to accept public comments on the document. The public meeting will be held on January 24, 2007, at the Radisson Plymouth Harbor Ballroom, 180 Water Street, Plymouth, Massachusetts 02360. There will be two sessions to accommodate interested parties. The first session will convene at 1:30 p.m. and will continue until 4:30 p.m., as necessary. The second session will convene at 7 p.m. with a repeat of the overview portions of the meeting and will continue until 10 p.m., as necessary. Both meetings will be transcribed and will include: (1) A presentation of the contents of the draft plant-specific supplement to the GEIS, and (2) the opportunity for interested government agencies, organizations, and individuals to provide comments on the draft report. Additionally, the NRC staff will host informal discussions one hour prior to the start of each session at the same location. No comments on the draft supplement to the GEIS will be accepted during the informal discussions. To be considered, comments must be provided either at the transcribed public meeting or in writing. Persons may pre-register to attend or present oral comments at the meeting by contacting Ms. Alicia Williamson, the NRC Environmental Project Manager at 1-800-368-5642, extension 1878, or by e-mail at PilgrimEIS@nrc.gov, no later than January 17, 2007. Members of the public may also register to provide oral comments within 15 minutes of the start of each session. Individual, oral comments may be limited by the time available, depending on the number of persons who register. If special equipment or accommodations are needed to attend or present information at the public meeting, the need should be brought to Ms. Alicia Williamson attention no later than January 10, 2007, to provide the NRC staff adequate notice to determine whether the request can be accommodated.

For Further Information Contact: Ms. Alicia Williamson, Environmental Branch B, Division of License Renewal, Office of Nuclear Reactor Regulation, U.S. Nuclear Regulatory Commission, Mail Stop O-11F1, Washington, DC, 20555-0001. Ms. Alicia Williamson may be contacted at the aforementioned telephone number or e-mail address.

Dated at Rockville, Maryland, this 8th day of December, 2007.
For The Nuclear Regulatory Commission.
Robert Schaaf,
Acting Branch Chief, Environmental Branch B, Division of License Renewal, Office of Nuclear Reactor Regulation.

[FR Doc. E6-21272 Filed 12-13-06; 8:45 am]

BILLING CODE 7590-01-P